DEPARTMENT OF AGRICULTURE

Forest Service

Rogue/Umpqua Resource Advisory Committee (RAC)

AGENCY: Forest Service, USDA.

ACTION: Action of Meeting.

SUMMARY: The Rogue/Umpqua Resource Advisory Committee (RAC) will meet on Wednesday and Thursday, March 11 and 12, in Medford, Oregon, at the BLM/Forest Service Interagency Office located at 3040 Biddle Road. On March 11, the meeting will begin at 9:30 a.m. and conclude at 5:15 p.m. On March 12, the meeting will begin at 8 a.m. and conclude at 4:30 p.m. Agenda items on March 11 include (1) Selection of RAC chairperson, (2) 30-minute public forum at 10 a.m., and (3) review and vote on proposed projects for Douglas County at 10:30 a.m. The agenda for March 12 includes (1) Review and vote on Jackson County projects at 8:15 a.m., (2) review and vote on Lane County projects at 10:45 a.m., (3) 30-minute public comment period at 1:30 p.m., (4) review and vote on Kiamath County projects at 2 p.m., and (5) discussion of how RAC members will monitor Title II projects. Written public comments may be submitted prior to the meeting by sending them to Designated Federal Official Cliff Dils at the address given below before March 10th 2009.

FOR FURTHER INFORMATION CONTACT: For more information regarding this meeting, contact Designated Federal Official Cliff Dils; Umpqua National Forest; 2900 NW., Stewart Parkway, Roseburg, Oregon 97470; (541) 957-3203.

Dated: February 9, 2009.
Cliff J. Dils,
Forest Supervisor, Umpqua National Forest.

[FR Doc. E9-3128 Filed 2-13-09; 8:45 am]

BILLING CODE 3410-11-M